DEPARTMENT OF HOMELAND SECURITY

Federal Emergency Management Agency

[Docket ID FEMA-2013-0002; Internal Agency Docket No. FEMA-B-1299]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 4, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1299, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Muscatine County, Iowa, and Incorporated Areas
Maps Available for Inspection Online at: http://www.starr-team.com/starr/RegionalWorkspaces/RegionVII/Muscatine/SitePages/Home.aspx
City of Fruitland | City Hall, 104 Sand Run Road, Fruitland, IA 52749.
City of Muscatine | City Hall, 215 Sycamore Street, Muscatine, IA 52761.
Unincorporated Areas of Muscatine County | Muscatine County Building, 3610 Park Avenue West, Muscatine, IA 52761.
Poweshiek County, Iowa, and Incorporated Areas
Maps Available for Inspection Online at: http://www.starr-team.com/starr/RegionalWorkspaces/RegionVII/PoweshiekCountyIowa/SitePages/Home.aspx
City of Brooklyn | City Hall, 138 Jackson Street, Brooklyn, IA 52211.
City of Deep River | City Hall, 701 Main Street, Deep River, IA 52222.
City of Grinnell | City Hall, 927 Fourth Avenue, Grinnell, IA 50112.
City of Guernsey | City Hall, 601 Cleveland Street, Guernsey, IA 52221.
City of Malcom | City Hall, 305 Third Street, Malcom, IA 50157.
City of Montezuma | City Hall, 501 East Main, Montezuma, IA 50171.
City of Searsboro | City Hall, 526 Main Street, Searsboro, IA 50242.
City of Victor | City Hall, 707 Second Street, Victor, IA 52347.
Town of Fort Kent, Aroostook County, Maine
Maps Available for Inspection Online at: http://www.starr-team.com/starr/RegionalWorkspaces/RegionI/FortKentME
Town of Fort Kent | 416 West Main Street, Fort Kent, ME 04743.
City of Baltimore, Maryland (Independent City)
Maps Available for Inspection Online at: www.rampp-team.com/md.htm
City of Baltimore | Department of Planning, 417 East Fayette Street, 8th Floor, Baltimore, MD 21202.
Baltimore County, Maryland, and Incorporated Areas
Maps Available for Inspection Online at: www.rampp-team.com/md.htm
Unincorporated Areas of Baltimore County | Baltimore County Office Building, Department of Public Works, 111 West Chesapeake Avenue, Suite 307, Towson, MD 21204.
Kent County, Maryland, and Incorporated Areas
Maps Available for Inspection Online at: www.rampp-team.com/md.htm
Town of Betterton | Town Office, 100 Main Street, Betterton, MD 21610.
Town of Chestertown | Town Office, 118 North Cross Street, Chestertown, MD 21620.
Town of Millington | Town Office, 402 Cypress Street, Millington, MD 21651.
Town of Rock Hall | Municipal Building, 5585 Main Street, Rock Hall, MD 21661.
Unincorporated Areas of Kent County | Kent County Government Center, 400 High Street, Chestertown, MD 21620.
Queen Anne's County, Maryland, and Incorporated Areas
Maps Available for Inspection Online at: www.rampp-team.com/md.htm
Town of Centreville | Town Hall, 101 Lawyer's Row, Centreville, MD 21617.
Town of Church Hill | Town Hall, 324 Main Street, Church Hill, MD 21623.
Town of Queen Anne | Town Clerk's Office, 31922 Flowers Road, Queen Anne, MD 21657.
Town of Queenstown | Town Office, 7013 Main Street, Queenstown, MD 21658.
Unincorporated Areas of Queen Anne's County | Queen Anne's County Department of Public Works, 312 Safety Drive, Centreville, MD 21617.
Mahnomen County, Minnesota, and Incorporated Areas
Maps Available for Inspection Online at: www.starr-team.com/starr/RegionalWorkspaces/RegionV/MahnomenMN
City of Mahnomen | City Hall, 104 West Madison Avenue, Mahnomen, MN 56557.
City of Waubun | City Hall, 1310 First Street, Waubun, MN 56589.
Unincorporated Areas of Mahnomen County | Planning, Zoning, and Sanitation Department, 1440 Highway 200, Mahnomen, MN 56557
White Earth Band of Minnesota Chippewa Indian | White Earth Tribal Administration, 35500 Eagle View Road, Ogema, MN 56569.
Nobles County, Minnesota, and Incorporated Areas
Maps Available for Inspection Online at: http://www.starr-team.com/starr/RegionalWorkspaces/RegionV/NoblesCoMN/SitePages/Home.aspx
City of Adrian | City Hall, 209 Maine Avenue, Suite 106, Adrian, MN 56110.
City of Ellsworth | City Hall, 322 South Broadway Street, Ellsworth, MN 56129.
City of Worthington | City Hall, 303 9th Street, Worthington, MN 56187.
Unincorporated Areas of Nobles County | Nobles County Government Center, 315 10th Street, Worthington, MN 56187.
Douglas County, Nebraska, and Incorporated Areas
Maps Available for Inspection Online at: http://www.starr-team.com/starr/RegionalWorkspaces/RegionVII/DouglasCountyNebraska/SitePages/Home.aspx
City of Omaha | Omaha-Douglas Civic Center, 1819 Farnam Street, Omaha, NE 68183.
City of Valley | City Hall, 203 North Spruce Street, Valley, NE 68064.
Unincorporated Areas of Douglas County | Douglas County Environmental Services, 3015 Menke Circle, Omaha, NE 68134.
Village of Waterloo | Village Hall, 509 South Front Street, Waterloo, NE 68069.
Upper Ohio-Shade Watershed
Meigs County, Ohio, and Incorporated Areas
Maps Available for Inspection Online at: http://www.starr-team.com/starr/RegionalWorkspaces/RegionV/MeigsCountyOH/SitePages/Home.aspx
Unincorporated Areas of Meigs County | Meigs County Tax Map Office, 112 Mulberry Avenue, Pomeroy, OH 45769.
Village of Middleport | Village Hall, 659 Pearl Street, Middleport, OH 45760.
Village of Pomeroy | Village Hall, 660 East Main Street, Suite A, Pomeroy, OH 45769.
Village of Racine | Village Hall, 405 Main Street, Racine, OH 45771.
Village of Rutland | Village Hall, 337 Main Street, Rutland, OH 45775.
Village of Syracuse | Village Hall, 2581 3rd Street, Syracuse, OH 45779.
Allegheny County, Pennsylvania, and Incorporated Areas
Maps Available for Inspection Online at: www.rampp-team.com/pa.htm
Borough of Aspinwall | Borough Municipal Building, 217 Commercial Avenue, Aspinwall, PA 15215.
Borough of Avalon | Borough Hall, 640 California Avenue, Avalon, PA 15202.
Borough of Baldwin | Baldwin Borough Municipal Building, 3344 Churchview Avenue, Pittsburgh, PA 15227.
Borough of Bell Acres | Bell Acres Borough Building, 1151 Camp Meeting Road, Sewickley, PA 15143.
Borough of Bellevue | Borough Hall, 537 Bayne Avenue, Bellevue, PA 15202.
Borough of Ben Avon | Ben Avon Borough Building, 7101 Church Avenue, Pittsburgh, PA 15202.
Borough of Blawnox | Blawnox Borough Office, 376 Freeport Road, Pittsburgh, PA 15238.
Borough of Brackenridge | Borough Office, 1000 Brackenridge Avenue, Brackenridge, PA 15014.
Borough of Braddock | Borough Municipal Building, 415 6th Street, Braddock, PA 15104.
Borough of Braddock Hills | Braddock Hills Borough Building, 1300 Brinton Road, Pittsburgh, PA 15221.
Borough of Bradford Woods | Borough Office, 4908 Wexford Run Road, Bradford Woods, PA 15015.
Borough of Brentwood | Brentwood Borough Municipal Building, 3624 Brownsville Road, Pittsburgh, PA 15227.
Borough of Bridgeville | Borough Municipal Building, 425 Bower Hill Road, Bridgeville, PA 15017.
Borough of Carnegie | Borough Building, 1 Glass Street, Carnegie, PA 15106.
Borough of Castle Shannon | Castle Shannon Borough Building, 3310 McRoberts Road, Pittsburgh, PA 15234.
Borough of Cheswick | Borough Office, 220 South Atlantic Avenue, Cheswick, PA 15024.
Borough of Churchill | Churchill Borough Municipal Building, 2300 William Penn Highway, Pittsburgh, PA 15235.
Borough of Coraopolis | Borough Hall, 1012 5th Avenue, Coraopolis, PA 15108.
Borough of Crafton | Crafton Borough Hall, 100 Stotz Avenue, Pittsburgh, PA 15205.
Borough of Dravosburg | Borough Building, 226 Maple Avenue, Dravosburg, PA 15034.
Borough of East Pittsburgh | Borough Hall, 516 Bessemer Avenue, East Pittsburgh, PA 15112.
Borough of Edgeworth | Borough Building, 301 Beaver Road, Edgeworth, PA 15143.
Borough of Elizabeth | Borough Hall, 206 3rd Avenue, Elizabeth, PA 15037.
Borough of Emsworth | Emsworth Borough Office, 171 Center Avenue, Pittsburgh, PA 15202.
Borough of Etna | Etna Borough Office, 437 Butler Street, Pittsburgh, PA 15223.
Borough of Forest Hills | Forest Hills Borough Building, 2071 Ardmore Boulevard, Pittsburgh, PA 15221.
Borough of Fox Chapel | Fox Chapel Borough Building, 401 Fox Chapel Road, Pittsburgh, PA 15238.
Borough of Franklin Park | Franklin Park Borough Hall, 2428 Rochester Road, Sewickley, PA 15143.
Borough of Glassport | Borough Secretary's Office, 440 Monongahela Avenue, Glassport, PA 15045.
Borough of Glen Osborne | Glen Osborne Borough Building, 601 Thorn Street, Sewickley, PA 15143.
Borough of Glenfield | Glenfield Borough Secretary's Office, 299 Dawson Avenue, Sewickley, PA 15143.
Borough of Green Tree | Green Tree Borough Building, 10 West Manilla Avenue, Pittsburgh, PA 15220.
Borough of Haysville | Haysville Borough Building, 18 River Road, Sewickley, PA 15143.
Borough of Heidelberg | Borough Building, 1631 East Railroad Street, Heidelberg, PA 15106.
Borough of Homestead | Borough Hall, 1705 Maple Street, Room 112, Homestead, PA 15120.
Borough of Jefferson Hills | Borough Municipal Center, 925 Old Clairton Road, Jefferson Hills, PA 15025.
Borough of Leetsdale | Borough Hall, 85 Broad Street, Leetsdale, PA 15056.
Borough of Liberty | Liberty Borough Municipal Building, 2921 Liberty Way, McKeesport, PA 15133.
Borough of Lincoln | Lincoln Borough Municipal Building, 45 Abe's Way, Elizabeth, PA 15037.
Borough of McDonald | Borough Building, 101 North McDonald Street, McDonald, PA 15057.
Borough of McKees Rocks | Borough Building, 340 Bell Avenue, McKees Rocks, PA 15136.
Borough of Millvale | Borough Hall, 501 Lincoln Avenue, Millvale, PA 15209.
Borough of Munhall | Borough Hall, 1900 West Street, Munhall, PA 15120.
Borough of North Braddock | Borough Hall, 600 Anderson Street, North Braddock, PA 15104.
Borough of Oakdale | Borough Building, 217 Marion Avenue, Oakdale, PA 15071.
Borough of Oakmont | Borough Municipal Building, 767 5th Street, Oakmont, PA 15139.
Borough of Pitcairn | Borough Building, 582 6th Street, Pitcairn, PA 15140.
Borough of Pleasant Hills | Pleasant Hills Borough Office, 410 East Bruceton Road, Pittsburgh, PA 15236.
Borough of Plum | Plum Borough Planning and Zoning Office, 4575 New Texas Road, Pittsburgh, PA 15239.
Borough of Port Vue | Borough Hall, 1191 Romine Avenue, Port Vue, PA 15133.
Borough of Rankin | Borough Hall, 320 Hawkins Avenue, Rankin, PA 15104.
Borough of Rosslyn Farms | Rosslyn Farms Borough Secretary's Office, 421 Kings Highway, Carnegie, PA 15106.
Borough of Sewickley | Borough Building, 601 Thorn Street, Sewickley, PA 15143.
Borough of Sewickley Heights | Sewickley Heights Borough Hall, 238 Country Club Road, Sewickley, PA 15143.
Borough of Sewickley Hills | Sewickley Hills Borough Municipal Building, 349 Magee Road, Sewickley, PA 15143.
Borough of Sharpsburg | Sharpsburg Borough Office, 1611 Main Street, Pittsburgh, PA 15215.
Borough of Springdale | Borough Municipal Building, 325 School Street, Springdale, PA 15144.
Borough of Swissvale | Borough Hall, 7560 Roslyn Street, Swissvale, PA 15218.
Borough of Tarentum | Borough Municipal Building, 318 2nd Avenue, Tarentum, PA 15084.
Borough of Thornburg | Thornburg Borough Secretary's Office, 545 Hamilton Road, Pittsburgh, PA 15205.
Borough of Trafford | Borough Hall, 402 Duquesne Avenue, Trafford, PA 15085.
Borough of Turtle Creek | Borough Building, 125 Monroeville Avenue, Turtle Creek, PA 15145.
Borough of Verona | Borough Municipal Building, 736 East Railroad Avenue, Verona, PA 15147.
Borough of Versailles | Versailles Borough Building, 5100 Walnut Street, McKeesport, PA 15132.
Borough of Wall | Borough Engineer's Office, 413 Wall Avenue, Wall, PA 15148.
Borough of West Elizabeth | Borough Building, 206 North 3rd Avenue, West Elizabeth, PA 15088.
Borough of West Homestead | Borough Engineer's Office, 401 West 8th Avenue, West Homestead, PA 15120.
Borough of West Mifflin | Borough Hall, 4733 Greenspring Avenue, West Mifflin, PA 15122.
Borough of West View | West View Borough Building, 441 Perry Highway, Pittsburgh, PA 15229.
Borough of Whitaker | Whitaker Borough Secretary's Office, 1705 Maple Street, Homestead, PA 15120.
Borough of White Oak | Borough Municipal Building, 2280 Lincoln Way, White Oak, PA 15131.
Borough of Whitehall | Whitehall Borough Complex, 100 Borough Park Drive, Pittsburgh, PA 15236.
Borough of Wilmerding | Borough Building, 301 Station Street, Wilmerding, PA 15148.
City of Clairton | City Engineer's Office, 551 Ravensburg Boulevard, Clairton, PA 15025.
City of Duquesne | City Building Inspector's Office, 12 South 2nd Street, Duquesne, PA 15110.
City of McKeesport | City Building Inspector's Office, 201 Lysle Boulevard, McKeesport, PA 15132.
City of Pittsburgh | City-County Building, 414 Grant Street, Pittsburgh, PA 15219.
Municipality of Bethel Park | Municipal Building, 5100 West Library Avenue, Bethel Park, PA 15102.
Municipality of Monroeville | Municipal Engineering Office, 2700 Monroeville Boulevard, Monroeville, PA 15146.
Municipality of Mt. Lebanon | Mt. Lebanon Municipal Building, 710 Washington Road, Pittsburgh, PA 15228.
Municipality of Penn Hills | Municipal Planning Department, 12245 Frankstown Road, Penn Hills, PA 15235.
Township of Aleppo | Aleppo Township Building, 100 North Drive, Sewickley, PA 15143.
Township of Baldwin | Baldwin Township Municipal Building, 10 Community Park Drive, Pittsburgh, PA 15234.
Township of Collier | Collier Township Zoning Office, 2418 Hilltop Road, Suite 100, Presto, PA 15142.
Township of Crescent | Township Municipal Building, 225 Spring Run Road, Crescent, PA 15046.
Township of East Deer | East Deer Township Municipal Building, 927 Freeport Road, Creighton, PA 15030.
Township of Elizabeth | Township Municipal Building, 522 Rock Run Road, Elizabeth, PA 15037.
Township of Fawn | Fawn Township Office, 3054 Howes Run Road, Tarentum, PA 15084.
Township of Findlay | Findlay Township Building, 1271 Route 30, Clinton, PA 15026.
Township of Forward | Forward Township Municipal Building, 1000 Golden Circle, Elizabeth, PA 15037.
Township of Frazer | Frazer Township Hall, 2129 Butler Logan Road, Tarentum, PA 15084.
Township of Hampton | Hampton Township Municipal Building, 3101 McCully Road, Allison Park, PA 15101.
Township of Harmar | Harmar Township Municipal Building, 701 Freeport Road, Cheswick, PA 15024.
Township of Harrison | Harrison Township Municipal Building, 1 Municipal Drive, Natrona Heights, PA 15065.
Township of Indiana | Indiana Township Hall, 3710 Saxonburg Boulevard, Pittsburgh, PA 15238.
Township of Kennedy | Kennedy Township Municipal Building, 340 Forest Grove Road, Coraopolis, PA 15108.
Township of Kilbuck | Kilbuck Township Municipal Building, 640 California Avenue, Pittsburgh, PA 15202.
Township of Leet | Leet Township Building, 198 Ambridge Avenue, Fair Oaks, PA 15143.
Township of Marshall | Marshall Township Municipal Building, 525 Pleasant Hill Road, Suite 100, Wexford, PA 15090.
Township of McCandless | McCandless Township Hall, 9955 Grubbs Road, Wexford, PA 15090.
Township of Moon | Township Office, 1000 Beaver Grade Road, Moon Township, PA 15108.
Township of Neville | Neville Township Municipal Building, 5050 Grand Avenue, Pittsburgh, PA 15225.
Township of North Fayette | North Fayette Township Building, 400 North Branch Road, Oakdale, PA 15071.
Township of North Versailles | Township Administrative Office, 1401 Greensburg Avenue, North Versailles, PA 15137.
Township of O'Hara | O'Hara Township Office, 325 Fox Chapel Road, Pittsburgh, PA 15238.
Township of Ohio | Ohio Township Building, 1719 Roosevelt Road, Pittsburgh, PA 15237.
Township of Pine | Pine Township Municipal Building, 230 Pearce Mill Road, Wexford, PA 15090.
Township of Reserve | Reserve Township Hall, 33 Lonsdale Street, Pittsburgh, PA 15212.
Township of Richland | Richland Township Building, 4019 Dickey Road, Gibsonia, PA 15044.
Township of Robinson | Robinson Township Building, 1000 Church Hill Road, Pittsburgh, PA 15205.
Township of Ross | Ross Township Hall, 5325 Perrysville Avenue, Pittsburgh, PA 15229.
Township of Scott | Scott Township Office, 301 Lindsay Road, Carnegie, PA 15106.
Township of Shaler | Shaler Township Hall, 300 Wetzel Road, Glenshaw, PA 15116.
Township of South Fayette | South Fayette Township Municipal Building, 515 Millers Run Road, Morgan, PA 15064.
Township of South Park | Township Code Enforcement Office, 2675 Brownsville Road, South Park, PA 15129.
Township of South Versailles | South Versailles Township Office, 201 Lysle Boulevard, McKeesport, PA 15132.
Township of Springdale | Springdale Township Hall, 100 Plate Drive, Harwick, PA 15049.
Township of Stowe | Stowe Township Building, 1301 Island Avenue, McKees Rocks, PA 15136.
Township of Upper St. Clair | Township Municipal Building, 1820 McLaughlin Run Road, Upper St. Clair, PA 15241.
Township of West Deer | West Deer Township Building, 109 East Union Road, Cheswick, PA 15124.
Township of Wilkins | Township Municipal Building, 100 Peffer Road, Wilkins, PA 15145.
Mercer County, North Dakota, and Incorporated Areas
Maps Available for Inspection Online at: http://www.bakeraecom.com/index.php/north-dakota/mercer/
City of Hazen | 146 Main Street East, Hazen, ND 58545.
Unincorporated Areas of Mercer County | DES Director, 021 Aurthur Street, Stanton, ND 58571.
Albemarle County, Virginia, and Incorporated Areas
Maps Available for Inspection Online at: www.rampp-team.com/va.htm
Town of Scottsville | Town Office, Victory Hall, Town Manager's Office, 401 Valley Street, Scottsville, VA 24590.
Unincorporated Areas of Albemarle County | Albemarle County Engineering Office, 401 McIntire Road, Charlottesville, VA 22902.
Chippewa County, Wisconsin, and Incorporated Areas
Maps Available for Inspection Online at: www.starr-team.com/starr/RegionalWorkspaces/RegionV/ChippewaWI
City of Eau Claire | City Hall, 203 South Farwell Street, Third Floor, Eau Claire, WI 54701.
Unincorporated Areas of Chippewa County | Chippewa County Courthouse, 711 North Bridge Street, Chippewa Falls, WI 54729.
Baraboo Watershed
Columbia County, Wisconsin, and Incorporated Areas
Maps Available for Inspection Online at: http://www.starr-team.com/starr/RegionalWorkspaces/RegionV/ColumbiaBarabooWI
City of Portage | City Hall, 115 West Pleasant Street, Portage, WI 53901.
Unincorporated Areas of Columbia County | Carl C. Frederick Administration Building, 400 DeWitt Street, Portage, WI 53901.
Eau Claire County, Wisconsin, and Incorporated Areas
Maps Available for Inspection Online at: www.starr-team.com/starr/RegionalWorkspaces/RegionV/EauClaireWI
City of Eau Claire | City Hall, 203 South Farwell Street, Third Floor, Eau Claire, WI 54701.
Unincorporated Areas of Eau Claire County | Eau Claire County Courthouse, 721 Oxford Avenue, Room 1510, Eau Claire, WI 54703.

(Catalog of Federal Domestic Assistance No. 97.022, “Flood Insurance.”)

Roy Wright,
Deputy Associate Administrator for Mitigation, Department of Homeland Security, Federal Emergency Management Agency.

[FR Doc. 2013-05186 Filed 3-5-13; 8:45 am]

BILLING CODE 9110-12-P